DEPARTMENT OF DEFENSE

Office of the Secretary

[Docket ID: DOD-2018-OS-0078]

Proposed Collection; Comment Request

AGENCY: Defense Media Activity, DoD.

ACTION: Information collection notice.

SUMMARY: In compliance with the Paperwork Reduction Act of 1995, the Defense Media Activity announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by December 24, 2018.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Defense Media Activity, American Forces Network Broadcast Center, 23755 Z Street, Riverside, CA 92518, or call 951-413-2569.

SUPPLEMENTARY INFORMATION:

Title; Associated Form; and OMB Number: American Forces Network Connect (AFNC); OMB Control Number 0704-0547.

Needs and Uses: The information collection requirement is necessary to obtain and audit the eligibility of DoD Employees, DoD contractors, Department of State (DoS) employees, military personnel (including retirees and active reservists) and their Family members overseas to receive restricted American Forces Radio and Television Service (AFRTS) programming services (i.e., radio, television, and web streaming services). Demographic data will also be collected to ensure the Defense Media Activity (DMA) provides its services in the most efficient and cost effective manner.

Affected Public: Individuals or Households.

Annual Burden Hours: 1,667.

Number of Respondents: 10,000.

Responses per Respondent: 1.

Annual Responses: 10,000.

Average Burden per Response: 10 minutes.

Frequency: On occasion.

The American Forces Network is a broadcast service of the DMA that provides an internal information program to provide U.S. radio and television news, information, and entertainment programming to Military Service members, DoD civilian and contract employees, and their families overseas, on board U.S. Navy and Coast Guard ships at sea, and other authorized users.

Dated: October 18, 2018.
Aaron T. Siegel,
Alternate OSD Federal Register Liaison Officer, Department of Defense.

[FR Doc. 2018-23163 Filed 10-23-18; 8:45 am]

BILLING CODE 5001-06-P